FEDERAL COMMUNICATIONS COMMISSION

47 CFR Parts 1, 2, and 27

[WT Docket No. 19-116, FCC 19-43]

Allocation and Service Rules for the 1675-1680 MHz Band

AGENCY: Federal Communications Commission.

ACTION: Proposed rule; correction.

SUMMARY: The Federal Communications Commission (Commission) published a document in the Federal Register of May 22, 2019 regarding the Commission's proposal to reallocate the 1675-1680 MHz band for shared use between incumbent federal operations and new, non-federal flexible wireless (fixed or mobile) use operations. The document provided incorrect information regarding the filing of comments. This document corrects that information.

DATES: June 17, 2019.

FOR FURTHER INFORMATION CONTACT: Anna Gentry, Mobility Division, Wireless Telecommunications Bureau, at (202) 418-7769, email: anna.gentry@fcc.gov.

Correction

In the Federal Register of May 22, 2019, in FR Doc. 2019-10675, on page 23508, in the third column, correct the ADDRESSES section to read:

ADDRESSES: You may submit comments, identified by WT Docket No. 19-116, by any of the following methods:

• Electronic Filers: Comments may be filed electronically using the internet by accessing the Commission's Electronic Comment Filing System (ECFS): https://www.fcc.gov/ecfs/. See Electronic Filing of Documents in Rulemaking Proceedings, 63 FR 24121 (1998).

• Paper Filers: Parties who choose to file by paper must file an original and one copy of each filing. Generally if more than one docket or rulemaking number appears in the caption of this proceeding, filers must submit two additional copies for each additional docket or rulemaking number. Commenters are only required to file copies in WT Docket No. 19-116.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW, Washington, DC 20554.

People with Disabilities: To request materials in accessible formats for people with disabilities (Braille, large print, electronic files, audio format), send an email to fcc504@fcc.gov or call the Consumer & Governmental Affairs Bureau at 202-418-0530 (voice), 202-418-0432 (TTY).

Federal Communications Commission.
Katura Jackson,
Federal Register Liaison Office, Office of the Secretary.

[FR Doc. 2019-12717 Filed 6-14-19; 8:45 am]

BILLING CODE 6712-01-P